DEPARTMENT OF ENERGY

Federal Energy Regulatory Commission

[Docket No. CP00-165-000]

Transcontinental Gas Pipeline Company; Notice of Intent To Prepare an Environmental Assessment for the Proposed Sundance Expansion Project, Request for Comments on Environmental Issues, and Schedule to Hold Site Visits

July 10, 2000.

The staff of the Federal Energy Regulatory Commission (FERC or Commission will prepare an environmental assessment (EA) that will discuss the environmental impacts of the Sundance Expansion Project (Sundance Project) involving construction and operation of facilities by Transcontinental Gas Pipe Line Company (Transco) in several counties in North Carolina, Georgia, Alabama, and Mississippi.¹ These facilities would consist of about 38 miles of 42- and 48-inch diameter pipeline, 41,225 horsepower (hp) of additional compression, piping modification at one compressor station, and installation of gas coolers at another compressor station. This EA will be used by the Commission in its decision-making process to determine whether the project is in the public convenience and necessity.

¹ Transco's application was filed with the Commission under Section 7 of the Natural Gas Act and Part 157 of the Commissions' regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility on My Land? What Do I Need to Know?” was attached to the project notice Transco provided to landowners. This fact sheet addresses a number of typically asked questions, including the use of eminent domain and how to participate in the Commission's proceedings. It is available for viewing on the FERC Internet website (ww.ferc.fed.us).

Summary of the Proposed Project

Transco wants to expand the capacity of its mainline pipeline facility in Mississippi, Alabama, Georgia, and North Carolina to transport an additional 236,383 dekatherms per day of natural gas to 12 shippers. Transco seeks authority to construct and operate the following facilities:

• 12.03 miles of 42-inch diameter pipeline loop from milepost 772.81 on transco's mainline in Clark County, Mississippi to milepost 784.84 in Choctaw County, Alabama (the “Desoto loop”);

• 9.36 miles of 48-inch diameter pipeline loop from milepost 851.46 on Transco's main line in Dallas County, Alabama to milepost 860.82 in Perry County, Alabama (the “Summerville loop”);

• Piping modifications at Transco's existing Compressor Station No. 105, located in Coosa County, Alabama;

• 8.97 miles of 42-inch diameter pipeline loop from milepost 1247.03 on Transco's mainline in Cleveland County, North Carolina to milepost 1256.00 in Gaston County, North Caroline (the “Kings Mountain loop”);

• 7.67 miles of 42-inch diameter pipeline loop from milepost 1287.11 on Transco's mainline to milepost 1294.78 in Iredell County, North Carolina (the “Mooresville loop”):

• One new 18,975 horsepower compressor unit, and the uprating of an existing 15,000 horsepower compression unit, and an existing 16,500 horsepower compressor unit to 18,975 horsepower each at Transco's existing Compressor Station No. 115, located in Coweta County, Georgia. The proposed Sundance project will increase the total certificated compression at this station to 56,425 horsepower;

• One new 15,000 horsepower compression unit, and the uprating of an existing 4,000 horsepower compression unit to 4,800 horsepower at Transco's existing Compressor Station No. 125, located in Walton County, Georgia. The proposed Sundance project will increase the total certificated compression at this station to 38,800 horsepower; and

• Gas coolers at Transco's existing Compressor Station No. 150, located in Iredell County, North Carolina.

The general location of the project facilities is shown in appendix 1.²

² The appendices referenced in this notice are not being printed in the Federal Register. Copies are available on the Commission's website at the “RIMS” link or from the Commission's Public Reference and Files Maintenance Branch, 888 First Street, N.E., Washington, D.C. 20426, or call (202) 208-1371. For instructions on connecting to RIMS refer to the last page of this notice. Copies of the appendices were sent to all those receiving this notice in the mail.

Land Requirements for Construction

Construction of the proposed pipeline additions would require about 516.4 acres of land. Following construction, about 164.9 acres would be maintained as new pipeline right of way. The remaining 351.5 acres of land would be restored and allowed to revert to its former use.

Installation of new facilities at the four existing compressor stations would require a total of about 8.1 acres of land area. However, no increase in land area would be required during operation of these facilities.

The EA Process

The National Environmental Policy Act (NEPA) requires the Commission to take into account the environmental impacts that could result from an action whenever it considers the issuance of a Certificate of Public Convenience and Necessity. NEPA also requires us to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their area of concern.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section at the beginning of page 6.

Currently Identified Environmental Issues

We have already identified several issues that we think deserve attention based on a preliminary review of the proposed facilities and the environmental information provided by Transco. This preliminary list of issues may be changed based on your comments and our analysis.

• Geology and Soils

—Erosion control and right-of-way restoration.

—Potential for mixing of topsoil and subsoil.

• Water Resources and Wetlands

—A total of 85 perennial water bodies would be crossed.

—A total of 61 wetlands, including 7.18 acres of forested and 5.76 acres of non-forested wetlands along the pipeline construction right of way, would be crossed.

• Biological Resources

—Impacts on 24 federally threatened and/or endangered species that may be present in the project area.

—Impacts on about 213 acres of upland forest and scrub-shrub habitat.

• Cultural Resources

—Impacts on prehistoric and historic sites

—Native American concerns

• Land Use

—Impacts on about 226 acres of rangeland.

—Impacts on residential areas.

—Visual effects of the aboveground facilities on surrounding areas.

—Impacts on 15 residents within 50 feet of the proposed construction area.

• Air and Noise Quality

—Impacts on local air and noise environment as a result of operation of the new compressor upgrades.

• Alternatives

—Evaluate possible alternatives to the proposed project or portions of the project, and make recommendations on how to lessen or avoid impacts on the various resource areas.

• Nonjurisdictional Facilities

—We have made a preliminary decision to not address the impacts of the nonjurisdictional facilities. We will briefly describe their location and status in the EA.

We will also evaluate possible alternatives to the proposed project or portions of the project, and make recommendations on how to lessen or avoid impacts on the various resource areas.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send two copies of your letter to: David P. Boergers, Secretary, Federal Energy Regulatory Commission, 888 First St., NE., Room 1A, Washington, DC 20426.

• Label one copy of the comments for the attention of Gas/Hydro Group.

• Reference Docket No. CP00-165-000.

• Mail your comments so that they will be received in Washington, DC on or before August 31, 2000.

If you do not want to send comments at this time but still want to remain on our mailing list, please return the Information Request (appendix 3). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from Mr. Paul McKee of the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

Schedule of Site Visits

The Commission staff will be conducting an environmental site visit of each facility proposed for the Sundance Expansion project during the week beginning on August 14 and continuing through August 18, 2000. The following list specifies the time and location to meet staff at each project facility.

Monday, August 14, 2000

Mooresville Loop: Noon, First United Methodist Church parking lot, Hwy. 115 at Fairview Road, Mt. Mourne, NC.

Tuesday, August 15, 2000

Kings Mountain Loop: 9 a.m., Ramada Inn Limited parking lot, 728 York Road, Kings Mountain, NC.

Wednesday, August 16, 2000

Transco's Compressor Station 125: 9 a.m., 1001 James Huff Road, Monroe, GA.

Transco's Compressor Station 115: 1 p.m., 510 Keith Road, Newnan, GA.

Thursday, August 17, 2000

Transco's Compressor Station 105: 9 a.m., 235 Hwy. 22 East, Rockford, AL.

Summerfield Loop: 1 p.m., Black Belt Regional Research and Extension Center, Main Building parking lot, County Road 58, 0.3-mile west of County Road 45, Marion Junction, AL.

Friday, August 18, 2000

DeSoto Loop: 9 a.m., First United Methodist Church parking lot, 203 E. Franklin Street, Quitman, MS.

Anyone interested in participating in the site visit may contact Mr. Paul McKee of the Commission's Office of External Affairs at (202) 208-1088 with any questions, or to obtain updates on the above schedule should changes occur while staff is en route to the meeting locations. Participants must provide their own transportation.

David P. Boergers,
Secretary.

[FR Doc. 00-17817 Filed 7-13-00; 8:45 am]

BILLING CODE 6717-01-M